DEPARTMENT OF HEALTH AND HUMAN SERVICES

National Institutes of Health

National Institute of Mental Health; Notice of Meeting

Pursuant to section 10(a) of the Federal Advisory Committee Act, as amended (5 U.S.C. Appendix 2), notice is hereby given of a meeting of the Services Subcommittee of the Interagency Autism Coordinating Committee (IACC).

The purpose of the Services Subcommittee is to review the current state of services and supports for individuals with Autism Spectrum Disorder (ASD) and their families in order to improve these services. The meeting will be open to the public, with attendance limited to space available. Individuals who plan to attend and need special assistance, such as sign language interpretation or other reasonable accommodations, should inform the Contact Person listed below at least 5 business days in advance of the meeting. The Subcommittee will report on its meeting at the February meeting of the IACC.

Name of Committee: Interagency Autism Coordinating Committee (IACC).

Type of meeting: Services Subcommittee.

Date: December 10, 2008.

Time: 2 p.m. to 5:30 p.m. Eastern Time.

Agenda: To review public comments received in response to a completed Request for Information from Autism Spectrum Disorders (ASD) stakeholders about what they consider to be high-priority issues and concerns surrounding services and supports for children, youth, and adults with ASD.

Place:

In Person: National Institutes of Health, 9000 Rockville Pike, Building 31C, Conference Room 7,Bethesda, MD 20892.

Webinar: https://www1.gotomeeting.com/register/563207085. To Access the Conference Call: Dial: 888-455-2920, Access code: 3857872.

Contact Person: Ms. Lina Perez, Office of Autism Research Coordination, Office of the Director, National Institute of Mental Health, NIH, 6001 Executive Boulevard, NSC, Room 8204a, Bethesda, MD 20892-9669, 301-443-6040, IACCPublicInquiries@mail.nih.gov.

Please Note: The meeting will be open to the public with limited seating. In addition, the public can access the meeting through a conference call phone number and a Web presentation tool on the Internet. Individuals who participate using these electronic services and who need special assistance, such as captioning of the conference call or other reasonable accommodations, should submit a request at least 5 days prior to the meeting.

Members of the public who participate using the conference call phone number will be able to listen to the meeting but will not be heard. There may be an opportunity for members of the public to submit written comments during the Subcommittee meeting through the Web presentation tool. Submitted comments will be reviewed after the meeting. If you experience any technical problems with the Web presentation tool, please contact GoToWebinar at (800) 263-6317.

To access the Web presentation tool on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

This notice is being published less than 15 days prior to the meeting due to the urgency to review the public comments received in response to a completed Request for Information from Autism Spectrum Disorders stakeholders.

Information about the IACC is available on the Web site: http://www.iacc.hhs.gov.

Dated: November 26, 2008.
Jennifer Spaeth,
Director, Office of Federal Advisory Committee Policy.

[FR Doc. E8-28743 Filed 12-3-08; 8:45 am]

BILLING CODE 4140-01-P